DEPARTMENT OF TRANSPORTATION

Federal Railroad Administration

[Docket Number FRA-2012-0052]

Notice of Public Hearing and Extension of Public Comment Period

Southeastern Pennsylvania Transportation Authority (SEPTA) has petitioned the Federal Railroad Administration (FRA) for an extension of its waiver of compliance from the Federal hours of service requirement for train employees engaged in commuter or intercity rail passenger transportation as specified in 49 CFR 228.405(b)(4). SEPTA's current waiver allows the travel time to an “other than regular reporting point,” to count as time off duty, if such travel time is less than or equal to the normal travel time to the employee's “regular reporting point.” This waiver is identified as FRA Docket Number FRA-2012-0052. A copy of SEPTA's full petition is available for review online at http://www.regulations.gov under the docket number identified above.

FRA has issued a public notice seeking comments from interested parties. See 79 FR 54343, Sept. 11, 2014. After examining the carrier's proposal and the available facts, FRA has determined that a public hearing is necessary before a final decision is made on this proposal. Accordingly, FRA invites all interested persons to participate in a public hearing on February 10, 2015. The hearing will be conducted in the first floor conference room, Baldwin Tower, 1510 Chester Pike, Crum Lynne, Pennsylvania, 19022. The hearing will begin at 10:00 a.m. Interested parties are invited to present oral statements at the hearing. For information on facilities or services for persons with disabilities or to request special assistance at the hearing, contact Ms. Carrieanne Holzworth at 610-521-8214.

The hearing will be conducted in accordance with Rule 25 of the FRA Rules of Practice (49 CFR 211.25) by a representative designated by FRA. The hearing will be a nonadversarial proceeding in which all interested parties will be given the opportunity to express their views regarding the petition without cross examination. An FRA representative will make an opening statement outlining the scope of the hearing. After all initial statements have been completed, those persons wishing to make brief rebuttal statements will be given the opportunity to do so in the same order in which they made their initial statements. Additional procedures, if necessary for the conduct of the hearing, will be announced at the hearing.

In addition, FRA is hereby extending the comment period for this petition to March 12, 2015, to allow for additional comments to be submitted following the public hearing.

All communications concerning these proceedings should identify the appropriate docket number and may be submitted by any of the following methods:

• Web site: http://www.regulations.gov. Follow the online instructions for submitting comments.

• Fax: 202-493-2251.

• Mail: Docket Operations Facility, U.S. Department of Transportation (DOT), 1200 New Jersey Avenue SE., W12-140, Washington, DC 20590.

• Hand Delivery: 1200 New Jersey Avenue SE., Room W12-140, Washington, DC 20590, between 9 a.m. and 5 p.m., Monday through Friday, except Federal Holidays.

All written communications concerning these proceedings are available for examination during regular business hours (9 a.m.-5 p.m.) at the above facility. All documents in the public docket are also available for inspection and copying on the Internet at the docket facility's Web site at: http://www.regulations.gov.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on December 10, 2014.
Ron Hynes,
Director, Office of Technical Oversight.

[FR Doc. 2014-29397 Filed 12-15-14; 8:45 am]

BILLING CODE 4910-06-P